FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 5, 2015.

A. Federal Reserve Bank of Atlanta (Chapelle Davis, Assistant Vice President) 1000 Peachtree Street NE., Atlanta, Georgia 30309:

1. Anthony Thomas Moore and Allison Tate Moore, both of Burns, Tennessee, to retain 12.076 percent of the outstanding shares of Cumberland Bancorp, Inc., and its subsidiary, Cumberland Bank & Trust Company, both of Clarksville, Tennessee.

Board of Governors of the Federal Reserve System, July 17, 2015.
Michael J. Lewandowski,
Assistant Secretary of the Board.

[FR Doc. 2015-18009 Filed 7-22-15; 8:45 am]

BILLING CODE 6210-01-P